DEPARTMENT OF LABOR

Employment and Training Administration

The Welfare to Work Partnership/Demand-Side Youth Offender Demonstration Project Grant, Phase II To Expand Partnership Implementation

AGENCY: Employment and Training Administration (ETA), Department of Labor (DOL).

ACTION: Notice of intent to award.

SUMMARY: The Employment and Training Administration/Office of Policy Development and Research wishes to expand this demonstration project with The Welfare to Work Partnership. This project started two years ago in which The Welfare to Work Partnership also served as the sole-source grantee. During the Phase I two year period, The Welfare to Work Partnership was able to effectively partner with 271 employers in the cities of Chicago, Miami, New York and the District of Columbia and provide unsubsidized employment to ex-offenders and individuals at-risk of court or gang involvement. The Welfare to Work Partnership's ability to represent a broad network of employers across the nation will play an important role in the relationship/partnership building aspect of the Phase II demonstration project.

DATES: The grant will or may be awarded on or after April 20, 2005.

FOR FURTHER INFORMATION CONTACT: Mary Vines, Office of Policy Development and Research, Room N-5637, 200 Constitution Avenue, NW., Washington, DC 20210. Telephone: 202-693-3683 (this is not a toll free number).

Signed at Washington, DC, this 28th day of March, 2005.
James W. Stockton,
Grants Officer Employment and Training Administration.

[FR Doc. 05-6666 Filed 4-4-05; 8:45 am]

BILLING CODE 4510-30-M